DEPARTMENT OF HEALTH AND HUMAN SERVICES

Centers for Disease Control and Prevention

Advisory Committee to the Director (ACD), Centers for Disease Control and Prevention—Health Disparities Subcommittee (HDS)

In accordance with section 10(a) (2) of the Federal Advisory Committee Act (Pub. L. 92-463), the Centers for Disease Control and Prevention (CDC) announces the following meeting of the aforementioned subcommittee:

Time and Date: 10 a.m.-12:15 p.m. EDT, October 24, 2012.

Place: Teleconference.

Status: Open to the public, limited only by the availability of telephone ports. The public is welcome to participate during the public comment period. A public comment period is tentatively scheduled for 12 p.m. to 12:15 p.m. To participate in the teleconference, please dial (866) 561-5277 and enter code 2238494.

Purpose: The Subcommittee will provide advice to the CDC Director through the ACD on strategic and other health disparities and health equity issues and provide guidance on opportunities for CDC.

Matters to be discussed: Agenda items will include the following: Office of Minority Health and Health Equity updates; discussion of draft recommendations from April 2012 meeting with the IOM Health Disparities Roundtable; discussion of Critical issues and Recommendations (Strategies to Strengthen CDC Response to Social Determinants of Health and Inequities); discussion regarding organizing the workflow of the HDS going forward; and HDS membership after June 2013.

The agenda is subject to change as priorities dictate.

Contact Person for More Information: Leandris Liburd, Ph.D., M.P.H., M.A., Designated Federal Officer, Health Disparities Subcommittee, Advisory Committee to the Director, CDC, 1600 Clifton Road NE., M/S E-67, Atlanta, Georgia 30333. Telephone (404) 498-2320, Email: LEL1@cdc.gov.

The Director, Management Analysis and Services Office, has been delegated the authority to sign Federal Register notices pertaining to announcements of meetings and other committee management activities, for both the Centers for Disease Control and Prevention and the Agency for Toxic Substances and Disease Registry.

Dated: October 1, 2012.
Elaine L. Baker,
Director, Management Analysis and Services Office, Centers for Disease Control and Prevention.

[FR Doc. 2012-24590 Filed 10-4-12; 8:45 am]

BILLING CODE 4163-18-P